AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before November 15, 2005.

FOR FURTHER INFORMATION CONTACT: Beverly Johnson, Bureau for Management, Office of Administrative Services, Information and Records Division, U.S. Agency for International Development, Room 2.07-106, RRB, Washington, DC 20523, (202) 712-1365 or via e-mail bjohnson@usaid.gov.

SUPPLEMENTARY INFORMATION:

OMB No: OMB 0412-0514.

Form No.: N/A.

Title: USAID Regulation 1—Rules and Procedures Applicable to Commodity Transactions Financed by USAID (22 CFR part 201).

Type of Review: Renewal of Information Collection.

Purpose: The U.S. Agency for International Development (USAID) finances transactions under Commodity Import Programs and needs to assure that the transaction complies with applicable statutory and regulatory requirements. In order to assure compliance and request refund when appropriate, information is required from host country importers, suppliers receiving USAID funds, and banks making payments for USAID.

Annual Reporting Burden:

Respondents: 335.

Total annual responses: 2,643.

Total annual hours requested: 1,042.

Dated: September 8, 2005.
Joanne Paskar,
Chief, Information and Records Division, Office of Administrative Services Bureau for Management.

[FR Doc. 05-18387 Filed 9-15-05; 8:45 am]

BILLING CODE 6116-01-M